NATIONAL SCIENCE FOUNDATION

National Artificial Intelligence Research Resource Task Force; Notice of Meeting

In accordance with the Federal Advisory Committee Act (Pub. L. 92-463, as amended), the National Science Foundation (NSF) announces the following meeting.

NAME AND COMMITTEE CODE: National Artificial Intelligence Research Resource Task Force (84629) (Virtual).

DATE AND TIME: May 20, 2022; 2:00 p.m. to 3:00 p.m. EDT.

PLACE: NSF, 2415 Eisenhower Avenue, Alexandria, VA 22314; Virtual Meeting.

To attend the virtual meeting, please send your request for the virtual meeting link to the following email: cmessam@nsf.gov.

TYPE OF MEETING: Open.

CONTACT PERSON: Brenda Williams, National Science Foundation, 2415 Eisenhower Avenue, Alexandria, VA 22314; Telephone: 703-292-8900; email: bwilliam@nsf.gov.

PURPOSE OF MEETING: The Task Force shall investigate the feasibility and advisability of establishing and sustaining a National Artificial Intelligence Research Resource; and propose a roadmap detailing how such resource should be established and sustained.

AGENDA: In this meeting, the Task Force members will conduct a formal vote to approve the Task Force's interim report to the President and Congress. The Task Force members will also discuss plans to engage the public and receive feedback on the interim report findings.

Dated: March 16, 2022.
Crystal Robinson,
Committee Management Officer.

[FR Doc. 2022-05879 Filed 3-18-22; 8:45 am]

BILLING CODE 7555-01-P